DEPARTMENT OF LABOR

Office of the Secretary

Submission for OMB Review: Comment Request

March 29, 2005.

The Department of Labor (DOL) has submitted the following public information collection requests (ICRs) to the Office of Management and Budget (OMB) for review and approval in accordance with the Paperwork Reduction Act of 1995 (Pub. L. 104-13, 44 U.S.C. chapter 35). A copy of each ICR, with applicable supporting documentation, may be obtained by contacting Darrin King on 202-693-4129 (this is not a toll-free number) or e-mail: king.darrin@dol.gov.

Comments should be sent to Office of Information and Regulatory Affairs, Attn: OMB Desk Officer for the Bureau of Labor Statistics (BLS), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Bureau of Labor Statistics.

Type of Review: Extension of a currently approved collection.

Title: Producer Price Index Survey.

OMB Number: 1220-0008.

Frequency: Monthly and Annually.

Type of Response: Reporting.

Affected Public: Business of other for-profit.

Number of Respondents: 35,388.

Form | Total annual responses | Average time per response (hours) | Estimated total annual burden hours
BLS 1810A, A1, B, C, C1, and E | 6,888 | 2 | 13,776
BLS 473P | 1,260,000 | .30 | 378,000
Totals | 1,266,888 |  | 391,776

Total Annualized capital/startup costs: $0.

Total Annual Costs (operating/maintaining systems or purchasing services): $0.

Description: The Producer Price Index, one of the Nation's leading economic indicators, is used as a measure of price movements, as an indicator of inflationary trends, for inventory valuation, and as a measure of purchasing power of the dollar at the primary market level. It is also used for market and economic research and as a basis for escalation in long-term contracts and purchase agreements.

Agency: Bureau of Labor Statistics.

Type of Review: Extension of a currently approved collection.

Title: Quarterly Census of Employment and Wages (QCEW).

OMB Number: 1220-0012.

Frequency: Quarterly.

Type of Response: Reporting.

Affected Public: State, Local, or Tribal Government.

Number of Respondents: 53.

Annual Responses: 212.

Average Response Time: 5,180.

Annual Burden Hours: 1,098,240.

Total Annualized capital/startup costs: $0.

Total Annual Costs (operating/maintaining systems or purchasing services): $0.

Description: QCEW data, which are provided to BLS by State Workforce Agencies, are used by BLS as a sampling frame for its establishment surveys; for publishing of accurate current estimates of employment for the U.S., States, and metropolitan areas; and publishing quarterly census totals of local establishment counts, employment and wages. The Bureau of Economic Analysis uses the data to produce accurate personal income data in a timely matter for the U.S., States, and local areas. Finally, the data is critical to the Employment Training Administration to administer employment insurance programs.

Ira L. Mills,
Departmental Clearance Officer.

[FR Doc. 05-6918 Filed 4-6-05; 8:45 am]

BILLING CODE 4510-24-P